ENVIRONMENTAL PROTECTION AGENCY

[FRL-7599-6]

Notice of Proposed Administrative Settlement Pursuant to the Comprehensive Environmental Response, Compensation, and Liability Act, as Amended by the Superfund Amendments and Reauthorization Act; Lagoon Drive Chemical Removal Site

AGENCY: Environmental Protection Agency.

ACTION: Notice, request for public comments.

SUMMARY: In accordance with Section 122(i) of the Comprehensive Environmental Response, Compensation, and Liability Act, as amended (“CERCLA”), 42 U.S.C. 9622(i), notice is hereby given of a proposed Administrative Order on Consent (“AOC,” Region 9, Docket No. 2004-0001) pursuant to Section 122(h) of CERCLA concerning the Lagoon Drive Chemicals Removal Site (the “Site”), located in Chula Vista, California. The respondent to the AOC is Gary Rasmussen (“Rasmussen”). The AOC provides Rasmussen with a covenant not to sue and contribution protection for the removal action at the Site. To date, EPA has incurred approximately $49,000.00 in response costs related to the Site. Rasmussen is reimbursing $5,000.00 of the incurred response costs to EPA, consistent with EPA's determination of Rasmussen's ability to pay. For thirty (30) days following the date of publication of this Notice, the Agency will receive written comments relating to the proposed AOC. The Agency's response to any comments will be available for public inspection at EPA's Region IX offices, located at 75 Hawthorne Street, San Francisco, California 94105.

DATES: Comments must be submitted on or before January 21, 2004.

ADDRESSES: The proposed Agreement may be obtained from Judith Winchell, Environmental Protection Specialist, telephone (415) 972-3124. Comments regarding the proposed Agreement should be addressed to Judith Winchell (SFD-7) at EPA Region IX, 75 Hawthorne Street, San Francisco, California 94105, and should reference the Lagoon Drive Chemicals Superfund Removal Site, Chula Vista, California, and USEPA Docket No. 2004-0001

FOR FURTHER INFORMATION CONTACT: J. Andrew Helmlinger, Office of Regional Counsel, telephone (415) 972-3904, USEPA Region IX, 75 Hawthorne Street, San Francisco, California 94105.

Dated: December 9, 2003.
Daniel A. Meer,
Chief Response, Planning & Assessment Branch, Superfund Division (SFD-9).

[FR Doc. 03-31472 Filed 12-19-03; 8:45 am]

BILLING CODE 6560-50-P